DEPARTMENT OF HEALTH AND HUMAN SERVICES

Centers for Disease Control and Prevention

[30 Day—09-08AX]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Sexually Transmitted Disease (STD) Morbidity Surveillance—New—National Center for HIV/AIDS, Viral Hepatitis, STD, and TB Prevention (NCHHSTP), Centers for Disease Control and Prevention (CDC).

Background and Brief Description

The CDC is responsible for the reporting and dissemination of nationally notifiable STD morbidity information for prevention and control purposes in collaboration with state and local health departments. Recent changes in sexually transmitted disease (STD) epidemiology in the United States indicate that the existing passive surveillance for STD does not include all the elements needed in order to control and prevent STDs in the U.S. Towards that end, CDC is proposing a new electronic information collection called STD Morbidity Surveillance that will include information on laboratory confirmation of syphilis infection and risk behaviors of persons infected with syphilis and other STDs. Physicians and other providers collect demographic, risk, and clinical (including laboratory) information from persons diagnosed with notifiable STDs during a clinical encounter or counseling session. The respondents will submit the information electronically, to the state and local public health departments. Clinical specimens obtained from case-patients are submitted to private or public diagnostic laboratories with laboratory requisition forms which includes information on the provider and case-patient. A subset of the information reported to state health departments from health care providers or laboratories is reported electronically as a case report e-record to CDC's Nationally Notifiable Disease Surveillance System on a weekly basis. CDC estimates that 57 respondents spend 20 minutes each week extracting notifiable STD surveillance information from their electronic information system. CDC staff review STD morbidity data at varying frequencies to identify population subgroups at increased risk for STDs. The target evidence-based intervention strategies, evaluate the impact of ongoing control efforts, thus enhancing our understanding of STD transmission. There is no cost to respondents other than their time. The total estimated annual burden hours are 989.

Estimated Annualized Burden Hours
Types of respondent | Form name | Number of respondents | Number of responses per respondent | Average burden per response (in hours)
State Health Departments | Electronic STD Case report | 50 | 52 | 20/60
Territorial Health Agencies | Electronic STD Case report | 5 | 52 | 20/60
City and county health departments | Electronic STD Case report | 2 | 52 | 20/60

Dated: January 8, 2009.
Maryam I. Daneshvar,
Acting Reports Clearance Officer, Centers for Disease Control and Prevention.

[FR Doc. E9-888 Filed 1-15-09; 8:45 am]

BILLING CODE 4163-18-P